DEPARTMENT OF DEFENSE

Office of the Secretary

[Docket ID: DOD-2011-OS-0026]

Privacy Act of 1974; System of Records

AGENCY: Defense Logistics Agency, DoD.

ACTION: Notice to amend a system of records.

SUMMARY: The Defense Logistics Agency is proposing to amend a system of records notice in its existing inventory of record systems subject to the Privacy Act of 1974 (5 U.S.C. 552a), as amended.

DATES: The proposed action will be effective without further notice on April 4, 2011 unless comments are received which would result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Jody Sinkler at (703) 767-5045, or Privacy Act Officer, Headquarters Defense Logistics Agency, ATTN: DGA, 8725 John J. Kingman Road, Suite 1644, Fort Belvoir, VA 22060-6221.

SUPPLEMENTARY INFORMATION: The Defense Logistics Agency's system of record notices subject to the Privacy Act of 1974 (5 U.S.C. 552a), as amended, have been published in the Federal Register and are available from the FOR FURTHER INFORMATION CONTACT address above.

The specific changes to the record system being amended are set forth below followed by the notice, as amended, published in its entirety. The proposed amendment is not within the purview of subsection (r) of the Privacy Act of 1974 (5 U.S.C. 552a), as amended, which requires the submission of new or altered systems reports.

Dated: March 1, 2011.
Morgan F. Park,
Alternate OSD Federal Register Liaison Officer, Department of Defense.

S900.50

System name:

Labor Hours, Project and Workload Records (December 30, 2008; 73 FR 79850).

Changes:

* * * * *

Authority for maintenance of the system:

Delete entry and replace with “5 U.S.C. 301, Departmental Regulations; 10 U.S.C. 136, Under Secretary of Defense for Personnel and Readiness; 5 U.S.C. Chapter 61, Hours of Work; Chapter 53, Pay Rates and Systems; Chapter 57, Travel, Transportation, and Subsistence; and Chapter 63, Leave; 41 U.S.C. 405a, Uniform Federal Procurement Regulations and Procedures; and FAR Part 16.601(b)(1), Time-and-Materials, Labor-Hour, and Letter Contracts.”

* * * * *

Retention and disposal:

Delete entry and replace with “Records are destroyed when 6 years, 3 months old or when no longer needed.”

* * * * *

System manager(s) and address:

Delete entry and replace with “Project Manager, DLA Information Operations Ogden, New Cumberland Deputy Director's Office, Defense Logistics Agency, 2001 Mission Drive, Suite 2, New Cumberland, PA 17070-5004. For a list of system managers at the Defense Logistics Agency Primary Level Field Activities write to the Project Manager.”

Notification procedure:

Delete entry and replace with “Individuals seeking to determine whether information about themselves is contained in this system of records should address written inquiries to the DLA Freedom of Information Act (FOIA)/Privacy Act Office, Headquarters, Defense Logistics Agency, ATTN: DGA, 8725 John J. Kingman Road, Suite 1644, Fort Belvoir, VA 22060-6221.

Inquiry should contain the subject individual's full name, User ID, return mailing address, and organizational location of employee.”

Record access procedures:

Delete entry and replace with “Individuals seeking access to information about themselves contained in this system of records should address written inquiries to the DLA FOIA/Privacy Act Office, Headquarters, Defense Logistics Agency, ATTN: DGA, 8725 John J. Kingman Road, Suite 1644, Fort Belvoir, VA 22060-6221.

Inquiry should contain the subject individual's full name, User ID, return mailing address, and organizational location of employee.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S900.50

System name:

Labor Hours, Project and Workload Records.

System location:

Defense Logistics Agency Headquarters, 8725 John J. Kingman Road, Suite 6226, Fort Belvoir, VA 22060-6221, and each Defense Logistics Agency (DLA) Primary Level Field Activity. Official mailing addresses are published as an appendix to DLA's compilation of systems of records notices.

Categories of individuals covered by the system:

Defense Logistics Agency military personnel and contractors are covered by this system of records.

Categories of records in the system:

Records maintained include individual's name, User ID, position, supervisor/contracting officer's technical representative, timekeeper, project manager, system access level, organization and office location, contract company, e-mail address and office telephone numbers; rate, work schedule, project and workload records, time and attendance, regular and overtime work hours and leave hours.

Authority for maintenance of the system:

5 U.S.C. 301, Departmental Regulations; 10 U.S.C. 136, Under Secretary of Defense for Personnel and Readiness; 5 U.S.C. Chapter 61, Hours of Work; Chapter 53, Pay Rates and Systems; Chapter 57, Travel, Transportation, and Subsistence; and Chapter 63, Leave; 41 U.S.C. 405a, Uniform Federal Procurement Regulations and Procedures; and FAR Part 16.601(b)(1), Time-and-Materials, Labor-Hour, and Letter Contracts.

Purpose(s):

For the purpose of tracking workload/project activity for analysis and reporting purposes, time and attendance, and labor distribution data against projects for management and planning purposes; to maintain management records associated with the operations of the contract; to evaluate and monitor the contractor performance and other matters concerning the contract.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To the contractor's employer for the purpose of resolving any discrepancy in hours billed to Defense Logistics Agency in accordance with FAR Clause 16.601 (b)(1). Records released include individual's name, User ID, position, company, project and workload records, time and attendance, regular and overtime work hours and leave hours.

The DoD “Blanket Routine Uses” as set forth at the beginning of DLA's compilation of systems of records notices also apply to this system.

Policies and practices for storing, retrieving, accessing, retaining, and disposing of records in the system:

Storage:

Paper records in file folders and on electronic storage media.

Retrievability:

Records are retrieved by subject individual's name or User ID.

Safeguards:

Records are maintained in a controlled facility. Physical entry is restricted by the use of locks, guards, and is accessible only to authorized personnel. Access to computerized data is controlled by Common Access Cards (CAC) and computer screens automatically lock after a preset period of inactivity with re-entry controlled by Common Access Cards (CAC). Access to records is limited to person(s) responsible for servicing the records in the performance of their official duties and who are properly screened and cleared for need-to-know. Individuals accessing the system of records are to have taken Information Assurance and Privacy Act training.

Retention and disposal:

Records are destroyed when 6 years, 3 months old or when no longer needed.

System manager(s) and address:

Project Manager, DLA Information Operations Ogden, New Cumberland Deputy Director's Office, Defense Logistics Agency, 2001 Mission Drive, Suite 2, New Cumberland, PA 17070-5004. For a list of system managers at the Defense Logistics Agency Primary Level Field Activities, write to the Project Manager.

Notification procedure:

Individuals seeking to determine whether information about themselves is contained in this system of records should address written inquiries to the DLA Freedom of Information Act (FOIA)/Privacy Act Office, Headquarters, Defense Logistics Agency, ATTN: DGA, 8725 John J. Kingman Road, Suite 1644, Fort Belvoir, VA 22060-6221.

Inquiry should contain the subject individual's full name, User ID, return mailing address, and organizational location of employee.

Record access procedures:

Individuals seeking access to information about themselves contained in this system of records should address written inquiries to the DLA FOIA/Privacy Act Office, Headquarters, Defense Logistics Agency, ATTN: DGA, 8725 John J. Kingman Road, Suite 1644, Fort Belvoir, VA 22060-6221.

Inquiry should contain the subject individual's full name, User ID, return mailing address, and organizational location of employee.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Records sources are the subject individual, supervisors, timekeepers, project manager, contractor officers, contractor representatives, and managers.

Exemptions claimed for the system:

None.

[FR Doc. 2011-4931 Filed 3-3-11; 8:45 am]

BILLING CODE 5001-06-P